DEPARTMENT OF ENERGY

Federal Energy Regulatory Commission

Combined Notice of Filings; Filings Instituting Proceedings

Take notice that the Commission has received the following Natural Gas Pipeline Rate and Refund Report filings:

Docket Numbers: RP11-2365-000.

Applicants: Cheyenne Plains Gas Pipeline Company, L.L.C.

Description: Cheyenne Plains Gas Pipeline Company, L.L.C. submits tariff filing per 154.402: ACA Filing effective 10-1-11 to be effective 10/1/2011.

Filed Date: 08/11/2011.

Accession Number: 20110811-5090.

Comment Date: 5 p.m. Eastern Time on Tuesday, August 23, 2011.

Docket Numbers: RP11-2366-000.

Applicants: Colorado Interstate Gas Company.

Description: Colorado Interstate Gas Company submits tariff filing per 154.402: ACA Filing—effective 10-1-11 to be effective 10/1/2011.

Filed Date: 08/11/2011.

Accession Number: 20110811-5091.

Comment Date: 5 p.m. Eastern Time on Tuesday, August 23, 2011.

Docket Numbers: RP11-2367-000.

Applicants: El Paso Natural Gas Company.

Description: El Paso Natural Gas Company submits tariff filing per 154.402: ACA Filing—effective 10-1-11 to be effective 10/1/2011.

Filed Date: 08/11/2011.

Accession Number: 20110811-5092.

Comment Date: 5 p.m. Eastern Time on Tuesday, August 23, 2011.

Docket Numbers: RP11-2368-000.

Applicants: Mojave Pipeline Company, LLC.

Description: Mojave Pipeline Company, LLC submits tariff filing per 154.402: ACA Filing—effective 10-1-11 to be effective 10/1/2011.

Filed Date: 08/11/2011.

Accession Number: 20110811-5093.

Comment Date: 5 p.m. Eastern Time on Tuesday, August 23, 2011.

Docket Numbers: RP11-2369-000.

Applicants: Wyoming Interstate Company, L.L.C.

Description: Wyoming Interstate Company, L.L.C. submits tariff filing per 154.402: ACA Filing—effective 10-1-11 to be effective 10/1/2011.

Filed Date: 08/11/2011.

Accession Number: 20110811-5094.

Comment Date: 5 p.m. Eastern Time on Tuesday, August 23, 2011.

Docket Numbers: RP11-2370-000.

Applicants: Young Gas Storage Company, Ltd.

Description: Young Gas Storage Company, Ltd. submits tariff filing per 154.402: ACA Filing—effective 10-1-11 to be effective 10/1/2011.

Filed Date: 08/11/2011.

Accession Number: 20110811-5095.

Comment Date: 5 p.m. Eastern Time on Tuesday, August 23, 2011.

Docket Numbers: RP11-2371-000.

Applicants: Transcontinental Gas Pipe Line Company, LLC.

Description: Transcontinental Gas Pipe Line Company, LLC submits tariff filing per 154.204: Revisions to GT&C Section 25 and Section 37 to be effective 9/11/2011.

Filed Date: 08/11/2011.

Accession Number: 20110811-5100.

Comment Date: 5 p.m. Eastern Time on Tuesday, August 23, 2011.

Docket Numbers: RP11-2372-000.

Applicants: Southern Natural Gas Company, L.L.C.

Description: Southern Natural Gas Company, L.L.C. submits tariff filing per 154.402: ACA Surcharge Filing to be effective 10/1/2011.

Filed Date: 08/12/2011.

Accession Number: 20110812-5038.

Comment Date: 5 p.m. Eastern Time on Wednesday, August 24, 2011.

Docket Numbers: RP11-2373-000.

Applicants: Southern LNG Company, L.L.C.

Description: Southern LNG Company, L.L.C. submits tariff filing per 154.402: ACA Surcharge Filing to be effective 10/1/2011.

Filed Date: 08/12/2011.

Accession Number: 20110812-5039.

Comment Date: 5 p.m. Eastern Time on Wednesday, August 24, 2011.

Docket Numbers: RP11-2374-000.

Applicants: Big Sandy Pipeline, LLC.

Description: Petition for Temporary Waiver and Request for Expedited Action and Shortened Comment Period of Big Sandy Pipeline, LLC.

Filed Date: 08/11/2011.

Accession Number: 20110811-5141.

Comment Date: 5 p.m. Eastern Time on Wednesday, August 17, 2011.

Docket Numbers: RP11-2375-000.

Applicants: Gulf South Pipeline Company, LP.

Description: Gulf South Pipeline Company, LP submits tariff filing per 154.204: Creditworthiness to be effective 9/12/2011.

Filed Date: 08/12/2011.

Accession Number: 20110812-5063.

Comment Date: 5 p.m. Eastern Time on Wednesday, August 24, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: August 12, 2011.
Kimberly D. Bose,
Secretary.

[FR Doc. 2011-21281 Filed 8-19-11; 8:45 am]

BILLING CODE 6717-01-P